DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with November anniversary dates. In accordance with Commerce's regulations, we are initiating those administrative reviews.

DATES: Applicable December 18, 2024.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with November anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our decision regarding respondent selection within 35 days of publication of the initiation Federal Register notice. Comments regarding the CBP data (and/or Q&V data (where applicable)) and respondent selection should be submitted within seven days after the placement of the CBP data/submission of the Q&V data on the record of this review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V Questionnaire is issued must complete, as appropriate, either a Separate Rate Application or Certification, and respond to the Q&V Questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf. Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than November 30, 2025.

| Period to be reviewed
AD Proceedings
ARGENTINA: Oil Country Tubular Goods, A-357-824 | 11/1/23-10/31/24
Siderca S.A.I.C
Tenaris Global Services S.A
Tubos de Acero de Mexico S.A
AUSTRIA: Strontium Chromate, A-433-813 | 11/1/23-10/31/24
Habich GmbH
BRAZIL: Certain Aluminum Foil, A-351-856 | 11/1/23-10/31/24
Companhia Brasileira de Alumínio
CBA Itapissuma Ltda
FRANCE: Strontium Chromate, A-427-830 | 11/1/23-10/31/24
Societe Nouvelle des Couleurs Zinciques
GERMANY: Thermal Paper, A-428-850 | 11/1/23-10/31/24
Akon Rulo Kagit Plastik Imalat IHR İTH. SAN. TİC. A.Ş
Amtress (M) Sdn. Bhd
Besto Sdn. Bhd
Convertidoras PCM, S.A. de C.V
Dor Etiket San VE Tic. Ltd
Engin Kagir Mamulleri San. Tic
Formas para Negocios, S.A. de C.V
Formularios de México S.A. de C.V
Kagit Mamulleri San. Tic. Ltd., Stl
Koehler Oberkirch GmbH
Koehler Paper SE; Koehler Kehl GmbH
Kooka Paper Manufacturing Sdn. Bhd
Matra Atlantic GmbH
Papeles y Conversiones de Mexico, S.A. de C.V
Sailing Paper (Malaysia) Sdn. Bhd
ShenZhen Sailing Paper Co., Ltd
Tele-Paper (M) Sdn. Bhd
Wellden (M) Sdn. Bhd
Wingle Industrial (Malaysia) Sdn. Bhd
INDIA: Paper File Folders, A-533-910 | 5/17/23-10/31/24
Navneet Education Limited
Kokuyo Riddhi Paper Products Private Limited
INDIA: Stainless Steel Flanges, A-533-977 | 10/1/23-9/30/24
Cetus Engineering Private Limited ⁴
INDIA: Welded Stainless Pressure Pipe, A-533-867 | 11/1/23-10/31/24
Jindal Saw Limited
Prakash Steelage Ltd. of India; Seth Steelage Pvt. Ltd
Ratnamani Metals & Tubes Ltd
Suncity Metals & Tubes Private Ltd
MEXICO: Certain Circular Welded Non-Alloy Steel Pipe, A-201-805 | 11/1/23-10/31/24
Abastecedora y Perfiles y Tubos, S.A. de C.V
ArcelorMittal Tubular Products Monterrey, S.A. de C.V
Arceros El Aguila y Arco Metal, S.A. de C.V
Burner Systems International De Mexico, S.A. de C.V
Conduit, S.A. de C.V
Fabricaciones Industriales Tumex, S.A. de C.V
fischer Mexicana Stainless Steel Tubing S.A. de C.V
fischer Tubtech Mexicana, S.A de C.V
Forza Steel, S.A. de C.V
Galvak, S.A. de C.V
Impulsora Tlaxcalteca de Industrias, S.A. de C.V
Industrias Monterrey S.A. de C.V
La Metálica S.A. de C.V
Lamina y Placa Comercial, S.A. de C.V
Mach 1 Aero Servicios, S. de R.L. de C.V
Mach 1 Global Services, Inc
Maquilacero, S.A. de C.V
Metalsa S.A
Mueller Comercial de Mexico, S. de R.L. de C.V
Nacional de Acero, S.A de C.V
Nova Tube and Coil de Mexico, S. de R.L. de C.V
Perfiles y Herrajes LM, S.A. de C.V
Precitubo S.A de C.V
Productos Especializados de Acero, S.A. de C.V
Productos Laminados de Monterrey, S.A. de C.V
PYTCO, S.A. de C.V
Regiomontana de Perfiles y Tubos, S.A. de C.V
Servicios Swecomex, S.A. de C.V
Talleres Acerorey, S.A. de C.V
Ternium Mexico, S.A. de C.V
Tubac, S.A. de C.V
Tubacero S. R.L. de C.V
Tubería Laguna, S.A. de C.V
Tuberias Procarsa, S.A. de C.V
Tubesa, S.A. de C.V
Tubos Omega
MEXICO: Certain Freight Rail Couplers and Part Thereof, A-201-857 | 5/3/23-10/31/24
Amsted Rail Company, Inc.; ASF-K de Mexico, S. de R.L. de C.V
BNSF Railway
CAI Rail Inc.
Canadian National Railway Company
Canadian Pacific Kansas City Limited
Chicago Freight Car Leasing Company
CIT Rail (First Citizens Bank)
CSX Transportation Corp
Freightcar America, Inc
GATX de Mexico
Mitsui de Mexico, S. de R.L. de C.V
Modern Rail Capital
National Steel Car, Ltd
Norfolk Southern Railway
Strato, Inc
The Greenbrier Companies, Inc
Trinity Rail Group LLC
TTX Company
Tubos Acero Mexico
Union Pacific Railroad
Union Tank Car Company
Wabtec Corporation
Wells Fargo Rail
MEXICO: Oil Country Tubular Goods, A-201-856 | 11/1/23-10/31/24
Siderca S.A.I.C
Tenaris Global Services, S.A
Tubos de Acero de Mexico, S.A
Vallourec Oil & Gas Mexico, S.A. de C.V
MEXICO: Steel Concrete Reinforcing Bar, A-201-844 | 11/1/23-10/31/24
Deacero S.A.P.I. de C.V.; I.N.G.E.T.E.K.N.O.S. Estructurales, S.A. de C.V
Grupo Acerero S.A. de C.V
Grupo Simec S.A.B. de C.V.; Aceros Especiales Simec Tlaxcala, S.A. de C.V.; Compania Siderurgica del Pacifico S.A. de C.V.; Fundiciones de Acero Estructurales, S.A. de C.V.; Grupo Chant, S.A.P.I. de C.V.; Operadora de Perfiles Sigosa, S.A. de C.V.; Orge S.A. de C.V.; Perfiles Comerciales Sigosa, S.A. de C.V.; RRLC S.A.P.I. De C.V.; Siderurgica del Occidente y Pacifico S.A. de C.V.; Siderurgicos Noroeste, S.A. de C.V.; Simec International, S.A. de C.V.; Simec International 6 S.A. de C.V.; Simec International 7, S.A. de C.V.; and Simec International 9 S.A. de C.V
Sidertul S.A. de C.V
OMAN: Certain Aluminum Foil, A-523-815 | 11/1/23-10/31/24
Oman Aluminium Rolling Company SPC
SPAIN: Thermal Paper, A-469-824 | 11/1/23-10/31/24
Torraspapel S.A
REPUBLIC OF KOREA: Certain Circular Welded Non-Alloy Steel Pipe, A-580-809 | 11/1/23-10/31/24
Aju Besteel
Bookook Steel
Chang Won Bending
Dae Ryung Corporation
Daiduck Piping Co. Ltd
Dongbu Steel Co., Ltd
Dong Yang Steel Pipe
EEW Korea Company
HiSteel Co., Ltd
Husteel Co., Ltd
Hyundai RB
Hyundai Steel Pipe Co., Ltd.; Hyundai Steel Company ⁵
Kiduck Industries
Kumkang Kind Co., Ltd
Kumsoo Connecting Co., Ltd
Miju Steel Manufacturing
NEXTEEL Co., Ltd
Samkang M&T
SeAH FS
SeAH Steel Corporation
Steel Flower Co., Ltd
YCP Co., Ltd
REPUBLIC OF KOREA: Thermal Paper, A-580-911 | 11/1/23-10/31/24
Akon Rulo Kagit Plastik Imalat IHR İTH. SAN. TİC. A.Ş
Amtress (M) Sdn. Bhd
Besto Sdn. Bhd
Convertidoras PCM, S.A. de C.V
Dor Etiket San VE Tic. Ltd
Engin Kagir Mamulleri San. Tic
Formas para Negocios, S.A. de C.V
Formularios de México S.A. de C.V
Hansol Paper Company
Kagit Mamulleri San. Tic. Ltd., Stl
Kooka Paper Manufacturing Sdn. Bhd
Papeles y Conversiones de Mexico, S.A. de C.V
Sailing Paper (Malaysia) Sdn. Bhd
ShenZhen Sailing Paper Co., Ltd
Tele-Paper (M) Sdn. Bhd
Wellden (M) Sdn. Bhd
Wingle Industrial (Malaysia) Sdn. Bhd
REPUBLIC OF TÜRKIYE: Certain Aluminum Foil, A-489-844 | 11/1/23-10/31/24
Assan Aluminyum Sanayi ve Ticaret A.S., Ispak Esnek Ambalaj Sanayi A.S., and Kibar Dis Ticaret A.S
ASAS Alüminyum Sanayi ve Ticaret A.Ş
Panda Alüminyum A.Ş
THE PEOPLE'S REPUBLIC OF CHINA: Diamond Sawblades and Parts Thereof, A-570-900 | 11/1/23-10/31/24
ASHINE Diamond Tools Co., Ltd
Bosch Power Tools China Co Ltd
Bosun Tools Co., Ltd
Chengdu Huifeng New Material Technology Co., Ltd
Danyang City Ou Di Ma Tools Co., Ltd
Danyang Hantronic Import & Export Co., Ltd
Danyang Huachang Diamond Tool Manufacturing Co., Ltd
Danyang Like Tools Manufacturing Co., Ltd
Danyang NYCL Tools Manufacturing Co., Ltd
Danyang Realsharp Tools Co., Ltd
Danyang Tongyu Tools Co., Ltd
Danyang Tsunda Diamond Tools Co., Ltd
Danyang Weiwang Tools Manufacturing Co., Ltd
Diamond Tools Technology (Thailand) Co., Ltd
Fujian Quanzhou Aotu Precise Machine Co., Ltd
Guangdong Sun Rising Tools Co., Ltd
Guilin Tebon Superhard Material Co., Ltd
Hailian Saw Technology Co., Ltd
Hangzhou Deer King Industrial and Trading Co., Ltd
Hangzhou Greatstar Industrial Co., Ltd
Hangzhou Huike Import and Export
Hangzhou Kingburg Import & Export Co., Ltd
Hangzhou Xinweiye Tools Co., Ltd
Hebei XMF Tools Group Co., Ltd
Henan Huanghe Whirlwind International Co., Ltd
Hong Kong Hao Xin International Group Limited
Hubei Changjiang Precision Engineering Materials Technology Co., Ltd
Hubei Sheng Bai Rui Diamond Tools Co., Ltd
Husqvarna (Hebei) Co., Ltd
Huzhou Gu's Import & Export Co., Ltd
Jiangsu Fengtai Diamond Tool Manufacture Co., Ltd
Jiangsu Fengtai Diamond Tools Co., Ltd
Jiangsu Huachang Diamond Tools Manufacturing Co., Ltd
Jiangsu Inter-China Group Corporation
Jiangsu Jinfeida Power Tools
Jiangsu Yaofeng Tools Co., Ltd
Jiangsu Youhe Tool Manufacturer Co., Ltd
MaxxTools (Suzhou) Corp., Ltd
Orient Gain International Limited
Pantos Logistics (HK) Company Limited
Protec Tools Co., Ltd
Pujiang Talent Diamond Tools Co., Ltd
Qingdao Hyosung Diamond Tools Co., Ltd
Qingdao Shinhan Diamond Industrial Co., Ltd
Qingyuan Shangtai Diamond Tools Co., Ltd
Quanzhou Sunny Superhard Tools Co., Ltd
Quanzhou Zhongzhi Diamond Tool Co., Ltd
Rizhao Hein Saw Co., Ltd
Saint-Gobain Abrasives (Shanghai) Co., Ltd
Shanghai Jingquan Industrial Trade Co., Ltd
Shanghai Lansi Trading Co., Ltd
Shanghai Starcraft Tools Co. Ltd
Shanghai Vinon Tools Industrial Co
Sino Tools Co., Ltd
Suzhou Blade Tech Tool Co Ltd
Tangshan Metallurgical Saw Blade Co., Ltd
Weihai Xiangguang Mechanical Industrial Co., Ltd
Wuhan Baiyi Diamond Tools Co., Ltd
Wuhan Sadia Trading Co., Ltd
Wuhan Wanbang Laser Diamond Tools Co., Ltd
Wuhan ZhaoHua Technology Co., Ltd
Xiamen ZL Diamond Technology Co., Ltd
Zhejiang Shall Tools Co., Ltd
Zhejiang Wanli Tools Group Co., Ltd
Zhenjiang Luckyway Tools Co., Ltd
ZL Diamond Technology Co., Ltd
ZL Diamond Tools Co., Ltd
ZZW Precision Tool Supply
THE PEOPLE'S REPUBLIC OF CHINA: Monosodium Glutamate, A-570-992 | 11/1/23-10/31/24
Ajinoriki MSG (Malaysia) Sdn Bhd
CVD Proceedings
INDIA: Welded Stainless Pressure Pipe, C-533-868 | 1/1/23-12/31/23
Prakash Steelage Ltd
Seth Steelage Pvt. Ltd
Sun Mark Stainless Private Limited; Shah Foils Ltd.; Sunrise Stainless Private Limited
REPUBLIC OF KOREA: Oil Country Tubular Goods, C-580-913 | 1/1/23-12/31/23
AJU Besteel Co., Ltd
ILJIN Steel Corporation
Hyundai Steel Pipe Co., Ltd
Kumkang Kind Co., Ltd
NEXTEEL Co., Ltd
SeAH Steel Corporation; SeAH Steel Holding Corporation ⁶
OMAN: Certain Aluminum Foil, C-523-816 | 1/1/23-12/31/23
Oman Aluminium Rolling Company LLC
REPUBLIC OF TÜRKIYE: Certain Aluminum Foil, C-489-845 | 1/1/23-12/31/23
Assan Aluminyum Sanayi ve Ticaret A.S.; Ispak Esnek Ambalaj Sanayi A.S.; and Kibar Dis Ticaret A.S
ASAS Aluminyum Sanayi ve Ticaret A.S
Panda Aluminyum A.S
REPUBLIC OF TÜRKIYE: Steel Concrete Reinforcing Bar; C-489-819 | 1/1/23-12/31/23
Colakoglu Metalurji A.S.; Colakoglu Dis Ticaret A.S
Icdas Celik Enerji Tersane ve Ulasim Sanayi A.S
Kaptan Demir Celik Endustrisi ve Ticaret A.S.; Kaptan Metal Dis Ticaret ve Nakliyat A.S
THE PEOPLE'S REPUBLIC OF CHINA: Chlorinated Isocyanurates, C-570-991 | 1/1/23-12/31/23
A.H.A International Co., Ltd
Anhui Hongze New Material Technology
Canaxy Asia Limited
Centurion Chemicals Co Ltd
Chemball (Hangzhou) Chemicals Co., Ltd
Dalian Trico Chemical Co Ltd
Eastar International Trading (Shanghai)
Gigacloud Technology (Suzhou) Company
Hangzhou Keli Chemical Co., Ltd
Hebei Ferturea Trade Co., Ltd
Hebei Fuhui Water Treatment Co., Ltd
Hebei Haida Chemical Industry Co Ltd
Hebei Higwi Trade Co Ltd
Hebei Jiheng Chemical Co., Ltd
Henan QX Trade Co., Ltd
Henan Saifu Trading Co., Ltd
Henan Zerui New Material
Heze Huayi Chemical Co., Ltd
Huangshan Jinfeng Industrial Co., Ltd
Hydrotech Investment Corporation
Jinchang International Forwarding
Juancheng Kangtai Chemical Co., Ltd
Orient Express Container (Shanghai)
Presafer Qingyuan Phosphor Chemical
Qingdao Best Chemical Company Limited
Qingdao Hot Chemicals Co., Ltd
Qingdao Huaxijin Industry and Trade
Qingdao Sinosalt Chemical Co., Ltd
RS Logistics Limited
Safety Shield (Qingdao) Technology
Shandong Jianbang New Material
Shandong Lichen Chemical Co., Ltd
Shandong Orange Joy Co., Ltd
Shandong QC Industry Co., Ltd
Shandong Wolan Biologic Group Co
Shanghai JiuHan Trading Co Ltd
Tech-Power (Huangshan) Ltd.
Tianjin DSC International Trade Co
Ultrafast Chemical Logistics (Shanghai)
Weifang Longshuo Chemical Co., Ltd
Yiwu Leixi Trading Company
Ynnovate Sanzheng (Yingkou)
Suspension Agreements
None

Duty Absorption Reviews

⁴ This company was inadvertently omitted from the initiation notice that published on November 14, 2024 (89 FR 89955).

⁵ Commerce determined that Hyundai Steel Pipe Co., Ltd. is the successor-in-interest to Hyundai Steel Company. See also Circular Welded Non-Alloy Steel Pipe from the Republic of Korea; Certain Oil Country Tubular Goods from the Republic of Korea; Welded Line Pipe from the Republic of Korea; and Large Diameter Welded Pipe from the Republic of Korea: Notice of Final Results of Antidumping Duty Changed Circumstances Reviews, 89 FR 89962 (November 14, 2024).

⁶ Commerce previously found SeAH Steel Holding Corporation to be a cross-owned affiliate of SeAH Steel Corporation. See Oil Country Tubular Goods from the republic of Korea and the Russian Federation: Countervailing Duty Orders, 87 FR 70782 (November 21, 2022). Accordingly, we are initiating this review with respect to SeAH Steel Corporation and its cross-owned entity, SeAH Steel Holding Corporation, listed in this notice.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁷ available at https://www.govinfo.gov/content/pkg/FR-2013-07-17/pdf/2013-17045.pdf, prior to submitting factual information in this segment. Note that Commerce has amended certain of its requirements pertaining to the service of documents in 19 CFR 351.303(f).⁸

⁷ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁸ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁹ Commerce intends to reject factual submissions in any proceeding segments if the submitting party does not comply with applicable certification requirements.

⁹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁰ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁰ See 19 CFR 351.302.

These initiations and this notice are in accordance with section 751(a) of the Act (19 U.S.C. 1675(a)) and 19 CFR 351.221(c)(1)(i).

Dated: December 12, 2024.
Scot Fullerton,
Acting Deputy Assistant Secretary for Antidumping and Countervailing Duty Operations.

[FR Doc. 2024-30029 Filed 12-17-24; 8:45 am]

BILLING CODE 3510-DS-P